SOCIAL SECURITY ADMINISTRATION

[Docket No. SSA-2009-0082]

Occupational Information Development Advisory Panel

AGENCY: Social Security Administration (SSA).

ACTION: Notice of upcoming panel teleconference meeting.

DATES: December 3, 2009, 12 p.m.-2 p.m. (EST).

Call-in number: 1-866-244-4629. Passcode: Panel Teleconference.

Leader/Host: Debra Tidwell-Peters.

SUPPLEMENTARY INFORMATION: Type of meeting: This Panel teleconference meeting is open to the public.

Purpose: This discretionary Panel, established under the Federal Advisory Committee Act of 1972, as amended, shall report to the Commissioner of Social Security. The Panel will provide independent advice and recommendations on plans and activities to replace the Dictionary of Occupational Titles used in the Social Security Administration's (SSA) disability determination process. The Panel will advise the Agency as it develops an occupational information system tailored specifically for SSA's disability programs and adjudicative needs. Advice and recommendations will relate to SSA's disability programs in the following areas: medical and vocational analysis of disability claims; occupational analysis, including definitions, ratings and capture of physical and mental/cognitive demands of work and other occupational information critical to SSA disability programs; data collection; use of occupational information in SSA's disability programs; and any other area(s) that will enable SSA to develop an occupational information system suited to its disability programs and improve the medical-vocational adjudication policies and processes.

Agenda: The agenda for the meeting will be posted on the Internet at http://www.ssa.gov/oidap/meetinginformation at least one week prior to the start date and may be received electronically, by e-mail or fax, upon request. Records are kept of all proceedings and will be available for public inspection by appointment at the Panel office.

There is no public comment period scheduled during this teleconference meeting. Persons interested in providing feedback on the Panel report entitled Content Model and Classification Recommendations for the Social Security Administration Occupational Information System (September 2009) may do so no later than February 15, 2010 by mail, fax or e-mail to the staff. Please include your complete contact information (full name, mailing and e-mail address) with the submission.

Contact Information: For information about the Panel, please contact the staff:

By mail to: Occupational Information Development Advisory Panel, Social Security Administration, Operations Building, 3-E-26, Baltimore, MD 21235.

By fax to: (410) 597-0825

By e-mail to: OIDAP@ssa.gov.

Dated: November 13, 2009.
Debra Tidwell-Peters,
Designated Federal Officer.

[FR Doc. E9-27796 Filed 11-18-09; 8:45 am]

BILLING CODE 4191-02-P